DEPARTMENT OF LABOR

Employment and Training Administration

[TA-W-65,851]

Precise Engineering, Lowell, MI; Notice of Termination of Investigation

In accordance with Section 221 of the Trade Act of 1974, as amended, an investigation was initiated on April 27, 2009, in response to a petition filed by a Michigan One-Stop Operator on behalf of workers of Precise Engineering, Lowell, Michigan.

The petitioner has requested that the petition be withdrawn. Consequently, the investigation has been terminated.

Signed in Washington, DC, this 1st day of May, 2009.
Richard Church,
Certifying Officer, Division of Trade Adjustment Assistance.

[FR Doc. E9-13463 Filed 6-8-09; 8:45 am]

BILLING CODE 4510-FN-P